DEPARTMENT OF ENERGY

Federal Energy Regulatory Commission

[Project No. 2801-000]

Littleville Power Company, Inc.; Notice of Intent To File Application for Subsequent License or Application for Exemption From Licensing

November 10, 2004.

a. Type of Filing: Notice of Intent to File Application for a Subsequent License or Application for Exemption from Licensing.¹

¹ For an exemption from licensing project, 18 CFR section 4.30(29) requires additional capacity.

b. Project No.: 2801-000.

c. Date Filed: October 28, 2004.

d. Submitted By: Littleville Power Company, Inc.—current licensee.

e. Name of Project: Glendale Hydroelectric Project.

f. Location: On the Housatonic River, in the Town of Stockbridge, Berkshire County, Massachusetts. The project uses no federal facilities and occupies no federal lands.

g. Filed Pursuant to: 18 CFR 16.19(b) of the Commission's regulations.

h. Effective Date of Current License: November 1, 1979.

i. Expiration Date of Current License: October 31, 2009.

j. The Project Consists of: (1) A reinforced concrete dam 30 feet high and 180 feet long; (2) a reservoir with a surface area of 40 acres at a normal water surface elevation of 811 feet m.s.l.; (3) a 1,500-foot-long, 40-foot-wide unlined canal with a mean water depth of 5 feet; (4) an intake structure leading to a 250-foot-long, 12-foot-diameter steel penstock; (5) a powerhouse with a concrete foundation and quarry rock walls containing 4 turbine/generator units with a total installed capacity of 1,140 kW; (6) a 1,500-foot-long, 13.8 kV transmission line; and (7) appurtenant facilities.

k. Pursuant to 18 CFR 16.7, information on the project is available at: Kevin Webb, Littleville Power Company, Inc., One Tech Drive, Suite 220, Andover, MA 01810, (978) 681-1900, extension 809.

l. FERC Contact: Kristen Murphy, (202) 502-6236, kristen.murphy@ferc.gov.

m. Pursuant to 18 CFR 16.20 of the Commission's regulations, applications for subsequent license must be filed with the Commission at least 24 months prior to the expiration of the existing license. Applications for license for this project must be filed by October 31, 2007.

n. A copy of this filing is available for review at the Commission in the Public Reference Room or may be viewed on the Commission's Web site at http://www.ferc.gov using the “eLibrary” link. Enter the docket number (P-2801) to access the document. For assistance, contact FERC Online Support at FERCOnlineSupport@ferc.gov or toll-free at 1-866-208-3676, or TTY 202-502-8659. A copy is also available for inspection and reproduction at the address in item k above.

o. Register online at http://www.ferc.gov/docs-filing/esubscription.asp to be notified via email of new filings and issuances related to this or other pending projects. For assistance, contact FERC Online Support as shown in the paragraph above.

Magalie R. Salas,
Secretary.

[FR Doc. E4-3250 Filed 11-18-04; 8:45 am]

BILLING CODE 6717-01-P